DEPARTMENT OF HEALTH AND HUMAN SERVICES

Centers for Disease Control and Prevention

Mine Safety and Health Research Advisory Committee, National Institute for Occupational Safety and Health (MSHRAC, NIOSH)

In accordance with section 10(a)(2) of the Federal Advisory Committee Act (Pub. L. 92-463), the Centers for Disease Control and Prevention (CDC) announces the following meeting for the aforementioned committee:

Time and Date: 8:15 a.m.-5 p.m., March 30, 2010; 8 a.m.-11:30 a.m., March 31, 2010.

Place: Hilton Garden Inn Pittsburgh/Southpointe, 1000 Corporate Drive, Canonsburg, Pennsylvania 15317, telephone (724) 743-5000, fax (724) 743-5010.

Status: Open to public, limited only by the space available. The meeting room accommodates approximately 50 people.

Purpose: This committee is charged with providing advice to the Secretary, Department of Health and Human Services; the Director, CDC; and the Director, NIOSH, on priorities in mine safety and health research, including grants and contracts for such research, 30 U.S.C. 812(b)(2), Section 102(b)(2).

Matters To Be Discussed: The meeting will focus on deep cover retreat mining research, mine illumination research, mine escape and rescue, human factors research, coal dust particle size surveys, and updates on proximity detection, a mine escape vehicle, robotics research, and results of broad agency announcements for mining research.

Agenda items are subject to change as priorities dictate.

For More Information Contact: Jeffery L. Kohler, PhD, Designated Federal Officer, MSHRAC, NIOSH, CDC, 626 Cochrans Mill Road, telephone (412) 386-5301, fax (412) 386-5300.

The Director, Management Analysis and Services Office, has been delegated the authority to sign Federal Register notices pertaining to announcements of meetings and other committee management activities for both CDC and the Agency for Toxic Substances and Disease Registry.

Dated: March 9, 2010.
Elaine L. Baker,
Director, Management Analysis and Services Office, Centers for Disease Control and Prevention.

[FR Doc. 2010-5628 Filed 3-15-10; 8:45 am]

BILLING CODE 4163-18-P